DEPARTMENT OF THE TREASURY

Internal Revenue Service

Proposed Collection; Comment Request for Revenue Procedure 2006-54; Correction

AGENCY: Internal Revenue Service (IRS), Treasury.

ACTION: Correction to notice and request for comments.

SUMMARY: This document contains a correction to a notice and request for comments(Revenue Procedure 2006-54) that was published in the Federal Register on Monday, January 29, 2007 (72 FR 4061) inviting the general public and other Federal agencies to take this opportunity to comment on proposed and/or continuing information collections.

FOR FURTHER INFORMATION CONTACT: Larnice Mack, (202) 622-3179 (not a toll-free number).

SUPPLEMENTARY INFORMATION:

Background

The notice and request for comments that is the subject of the correction is required by the Paperwork Reduction Act of 1995, Public Law 104-13(44 U.S.C. 3506(c)(2)(A)).

Need for Correction

As published, the comment request for Revenue Procedure 2006-54 contains an error that may prove to be misleading and is in need of clarification.

Correction of Publication

Accordingly, the publication of the comment request for Revenue Procedure 2006-54, which was the subject of FR Doc. E7-1301, is corrected as follows:

On page 4061, column 1, in the preamble, under the caption “Summary”, fourth line from bottom of the paragraph, the language “Revenue Procedure 2006-49,” is corrected to read “Revenue Procedure 2006-54,”.

LaNita Van Dyke,
Chief, Publications and Regulations Branch, Legal Processing Division,Associate Chief Counsel, (Procedure and Administration).

[FR Doc. E7-2141 Filed 2-8-07; 8:45 am]

BILLING CODE 4830-01-P